DEPARTMENT OF HEALTH AND HUMAN SERVICES

Administration for Children and Families

Refugee Resettlement Program; Proposed Availability of Formula Allocation Funding for FY 2002 Targeted Assistance Grants for Services to Refugees in Local Areas of High Need

AGENCY: Office of Refugee Resettlement (ORR), ACF, HHS.

ACTION: Notice of proposed availability of and request for comments on formula allocation funding for FY 2002 targeted assistance grants to States for services to refugees ¹ in local areas of high need.

¹ Eligibility for targeted assistance includes refugees, asylees, Cuban and Haitian entrants, certain Amerasians from Vietnam who are admitted to the U.S. as immigrants, certain Amerasians from Vietnam who are U.S. citizens, and victims of a severe form of trafficking who receive certification or eligibility letters from ORR. (See section II of this notice on “Authorization,” and refer to 45 CFR 400.43 and the ORR State Letter #01-13 on the Trafficking Victims Protection Act dated May 3, 2001.) The term “refugee,” used in this notice for convenience, is intended to encompass such additional persons who are eligible to participate in refugee program services, including the targeted assistance program.

SUMMARY: This notice and request for comments announces the proposed availability of funds and award procedures for FY 2002 targeted assistance grants for services to refugees under the Refugee Resettlement Program (RRP). These grants are for service provision in localities with large refugee populations, high refugee concentrations, and high use of public assistance by refugees, and where specific needs exist for supplementation of currently available resources.

This notice proposes that the qualification of counties for funding be based on refugee and entrant arrivals during the five-year period from FY 1997 through FY 2001, and on the concentration of refugees and entrants as a percentage of the general population. Under this proposal, nine new counties would qualify for targeted assistance and five counties which previously received targeted assistance grants would no longer qualify for targeted assistance funding.

DATES: Comments on this notice must be received by June 27, 2002.

ADDRESSES: Address written comments, in duplicate, to:

Gayle Smith, Office of Refugee Resettlement, Administration for Children and Families, 370 L'Enfant Promenade, SW., Washington, DC 20447.

Due to delays in mail delivery to Federal offices, a copy of comments should also be faxed to: Gayle Smith at (202) 401-0981.

Application Deadline: The deadline for applications will be established by the final notice; applications should not be sent in response to this notice of proposed allocations.

Catalog of Federal Domestic Assistance (CFDA) Number: 93.584.

FOR FURTHER INFORMATION CONTACT: Gayle Smith, Director, Division of Refugee Self-Sufficiency, (202) 205-3590, e-mail: gsmith@acf.dhhs.gov.

SUPPLEMENTARY INFORMATION:

I. Purpose and Scope

This notice announces the proposed availability of funds for grants for targeted assistance for services to refugees in counties where, because of factors such as unusually large refugee populations, high refugee concentrations, and high use of public assistance by refugees, there exists and can be demonstrated a specific need for supplementation of resources for services to this population.

The Office of Refugee Resettlement (ORR) has available $49,477,000 in FY 2002 funds for the targeted assistance program (TAP) as part of the FY 2002 appropriation for the Department of Health and Human Services (Pub. L. 107-116).

The Director of the Office of Refugee Resettlement (ORR) proposes to use the $49,477,000 in targeted assistance funds as follows:

• $44,529,300 will be allocated to States under the 5-year population formula, as set forth in this notice.

• $4,947,700 (10% of the total) will be used to award discretionary grants to States under continuation grant awards.

The purpose of targeted assistance grants is to provide, through a process of local planning and implementation, direct services intended to result in the economic self-sufficiency and reduced welfare dependency of refugees through job placements.

The targeted assistance program reflects the requirements of section 412(c)(2)(B) of the Immigration and Nationality Act (INA), which provides that targeted assistance grants shall be made available “(i) primarily for the purpose of facilitating refugee employment and achievement of self-sufficiency, (ii) in a manner that does not supplant other refugee program funds and that assures that not less than 95 percent of the amount of the grant award is made available to the county or other local entity.”

II. Authorization

Targeted assistance projects are funded under the authority of: (1) Section 412(c)(2) of the (INA), as amended by the Refugee Assistance Extension Act of 1986 (Pub. L. 99-605), 8 U.S.C. 1522(c); (2) section 501(a) of the Refugee Education Assistance Act of 1980 (Pub. L. 96-422), 8 U.S.C. 1522 note, insofar as it incorporates by reference with respect to Cuban and Haitian entrants the authorities pertaining to assistance for refugees established by section 412(c)(2) of the INA, as cited above; (3) section 584(c) of the Foreign Operations, Export Financing, and Related Programs Appropriations Act, 1988, as included in the FY 1988 Continuing Resolution (Pub. L. 100-202), insofar as it incorporates by reference with respect to certain Amerasians from Vietnam the authorities pertaining to assistance for refugees established by section 412(c)(2) of the INA, as cited above, including certain Amerasians from Vietnam who are U.S. citizens, as provided under title II of the Foreign Operations, Export Financing, and Related Programs Appropriations Acts, 1989 (Pub. L. 100-461), 1990 (Pub. L. 101-167), and 1991 (Pub. L. 101-513); and (4) section 107(b)(1)(A) of the Victims of Trafficking and Violence Protection Act of 2000 (Pub. L. 106-386), insofar as it states that a victim of a severe form of trafficking shall be eligible for federal and certain State benefits and services to the same extent as a refugee.

III. Client and Service Priorities

Targeted assistance funding must be used to assist refugee families to achieve economic independence. To this end, States and counties are required to ensure that a coherent family self-sufficiency plan is developed for each eligible family that addresses the family's needs from time of arrival until attainment of economic independence. (See 45 CFR 400.79 and 400.156(g).) Each family self-sufficiency plan should address a family's needs for both employment-related services and other needed social services. The family self-sufficiency plan must include: (1) A determination of the income level a family would have to earn to exceed its cash grant and move into self-support without suffering a monetary penalty; (2) a strategy and timetable for obtaining that level of family income through the placement in employment of sufficient numbers of employable family members at sufficient wage levels; (3) employability plans for every employable member of the family; and (4) a plan to address the family's social services needs that may be barriers to self-sufficiency. In local jurisdictions that have both targeted assistance and refugee social services programs, one family self-sufficiency plan may be developed for a family that incorporates both targeted assistance and refugee social services.

Services funded through the targeted assistance program are required to focus primarily on those refugees who, either because of their protracted use of public assistance or difficulty in securing employment, continue to need services beyond the initial years of resettlement. States may not provide services funded under this notice, except for referral and interpreter services, to refugees who have been in the United States for more than 60 months (5 years).

In accordance with 45 CFR 400.314, States are required to provide targeted assistance services to refugees in the following order of priority, except in certain individual extreme circumstances: (a) Refugees who are cash assistance recipients, particularly long-term recipients; (b) unemployed refugees who are not receiving cash assistance; and (c) employed refugees in need of services to retain employment or to attain economic independence.

In addition to the statutory requirement that TAP funds be used “primarily for the purpose of facilitating refugee employment” (section 412(c)(2)(B)(i) of the INA), funds awarded under this program are intended to help fulfill the Congressional intent that “employable refugees should be placed in jobs as soon as possible after their arrival in the United States” (section 412(a)(1)(B)(i) of the INA). Therefore, in accordance with 45 CFR 400.313, targeted assistance funds must be used primarily for employability services designed to enable refugees to obtain jobs with less than one year's participation in the targeted assistance program in order to achieve economic self-sufficiency as soon as possible. Targeted assistance services may continue to be provided after a refugee has entered a job to help the refugee retain employment or move to a better job. Targeted assistance funds may not be used for long-term training programs such as vocational training that last for more than a year or educational programs that are not intended to lead to employment within a year.

In accordance with 45 CFR 400.317, if targeted assistance funds are used for the provision of English language training, such training must be provided in a concurrent, rather than sequential, time period with employment or with other employment-related activities.

A portion of a local area's allocation may be used for services which are not directed toward the achievement of a specific employment objective in less than one year but which are essential to the adjustment of refugees in the community, provided such needs are clearly demonstrated and such use is approved by the State. Refer to 45 CFR 400.316.

Reflecting section 412(a)(1)(A)(iv) of the INA, States must “insure that women have the same opportunities as men to participate in training and instruction.” In addition, in accordance with 45 CFR 400.317, services must be provided to the maximum extent feasible in a manner that includes the use of bilingual/bicultural women on service agency staffs to ensure adequate service access by refugee women. The Director of ORR also strongly encourages the inclusion of refugee women in management and board positions in agencies that serve refugees. In order to facilitate refugee self-support, the Director also expects States to implement strategies which address simultaneously the employment potential of both male and female wage earners in a family unit.

States and counties are expected to make every effort to obtain child care services, preferably subsidized child care, in order to allow women with children the opportunity to participate in employment services or to accept or retain employment. To accomplish this, child care may be treated as an employment-related service under the targeted assistance program. Refugees who are participating in targeted assistance-funded or social services-funded employment services or have accepted employment are eligible for child care. States and counties are expected to use child care funding from other publicly-administered programs as a prior resource and are encouraged to work with service providers to ensure mainstream access to other publicly funded resources for child care. For an employed refugee, targeted assistance-funded child care should be limited to situations in which no other publicly funded child care funding is available. In these cases, child care services funded by targeted assistance should be limited to one year after the refugee becomes employed.

In accordance with 45 CFR 400.317, targeted assistance services must be provided in a manner that is culturally and linguistically compatible with a refugee's language and cultural background, to the maximum extent feasible. In light of the increasingly diverse population of refugees who are resettling in this country, refugee service agencies will need to develop practical ways of providing culturally and linguistically appropriate services to a changing ethnic population. Services funded under this notice must be refugee-specific services which are designed specifically to meet refugee needs and are in keeping with the rules and objectives of the refugee program. Vocational or job-skills training, on-the-job training, or English language training, however, need not be refugee-specific.

We strongly encourage States and counties when contracting for targeted assistance services, including employment services, to give consideration to the special strengths of mutual assistance associations (MAAs), whenever contract bidders are otherwise equally qualified, provided that the MAA has the capability to deliver services in a manner that is culturally and linguistically compatible with the background of the target population to be served. We also strongly encourage MAAs to ensure that their management and board composition reflect the major target populations to be served.

ORR defines MAAs as organizations with the following qualifications:

a. The organization is legally incorporated as a nonprofit organization; and

b. Not less than 51% of the composition of the Board of Directors or governing board of the mutual assistance association is comprised of refugees or former refugees, including both refugee men and women.

Finally, in order to provide culturally and linguistically compatible services in as cost-efficient a manner as possible in a time of limited resources, ORR strongly encourages States and counties to promote and give special consideration to the provision of services through coalitions of refugee service organizations, such as coalitions of MAAs, voluntary resettlement agencies, or a variety of service providers. ORR believes it is essential for refugee-serving organizations to form close partnerships in the provision of services to refugees in order to be able to respond adequately to a changing refugee picture. Coalition-building and consolidation of providers is particularly important in communities with multiple service providers in order to ensure better coordination of services and maximum use of funding for services by minimizing the funds used for multiple administrative overhead costs.

The award of funds to States under this notice will be contingent upon the completeness of a State's application as described in section IX, below.

IV. {Reserved for Discussion of Comments in the Final Notice}

V. Eligible Grantees

Eligible grantees are: 1. Those agencies of State governments that are responsible for the refugee program under 45 CFR 400.5 in States containing counties which qualify for FY 2002 targeted assistance awards; and 2. those non-State agencies funded under the Wilson-Fish program which administer, in lieu of a State, a statewide refugee assistance program containing counties which qualify for FY 2002 targeted assistance formula funds.

The Director of ORR proposes to determine the eligibility of counties for inclusion in the FY 2002 targeted assistance program on the basis of the method described in section VI of this notice.

The use of targeted assistance funds for services to Cuban and Haitian entrants is limited to States which have an approved State plan under the Cuban/Haitian Entrant Program (CHEP).

The State/Wilson-Fish agency will submit a single application on behalf of all county governments of the qualified counties in that State. Subsequent to the approval of the State/Wilson-Fish's agency application by ORR, local targeted assistance plans will be developed by the county government or other designated entity and submitted to the State/Wilson-Fish agency.

A State with more than one qualified county is permitted, but not required, to determine the allocation amount for each qualified county within the State. However, if a State chooses to determine county allocations differently from those set forth in the final notice, in accordance with 45 CFR 400.319, the FY 2002 allocations proposed by the State must be based on the State's population of refugees who arrived in the U.S. during the most recent 5-year period. A State may use welfare data as an additional factor in the allocation of its targeted assistance funds if it so chooses; however, a State may not assign a greater weight to welfare data than it has assigned to population data in its allocation formula. In addition, if a State chooses to allocate its FY 2002 targeted assistance funds in a manner different from the formula set forth in the final notice, the FY 2002 allocations and methodology proposed by the State must be included in the State's application for ORR review and approval.

Applications submitted in response to the final notice are not subject to review by State and area wide clearinghouses under Executive Order 12372, “Intergovernmental Review of Federal Programs.”

VI. Qualification and Allocation

For FY 2002, ORR proposes to continue to use the formula that bases allocation of targeted assistance funds on the most current 5-year refugee/entrant arrival data. Targeted assistance services are limited to refugees residing in qualified counties who have been in the U.S. five years or less. The Director of ORR proposes to determine the qualification of counties for targeted assistance once every three years, as stated in the FY 1999 notice of proposed availability of targeted assistance allocations to States which was published in the Federal Register on March 10, 1999 (64 FR 11927). The FY 1999-FY 2001 three-year project cycle has expired. In preparation for re-qualifying counties for FY 2002, ORR has reviewed data on all counties that could potentially qualify for TAP funds on the basis of the most current 5-year refugee/entrant ² arrival data.

² Each time the term “refugee/entrant” is used, we refer to arrival data for refugees and Cuban and Haitian entrants that is available in the ORR refugee data system.

A. Qualifying Counties

In order to qualify for application for FY 2002 targeted assistance funds, a county (or group of adjacent counties with the same Standard Metropolitan Statistical Area, or SMSA) or independent city, would be required to either: (1) Rank above a selected cut-off point of jurisdictions for which data were reviewed, based on two criteria: (a) The number of refugee/entrant arrivals placed in the county during the most recent five-year period (FY 1997-FY 2001); and (b) the five-year refugee/entrant arrival population as a percent of the county overall population; or (2) have received 3,000 or more refugee/entrant arrivals during this same 5-year period.

In regard to the first qualification criteria, each county would be ranked on the basis of its five-year arrival population and its concentration of refugees, with a relative weighting of two to one respectively, because we believe that large numbers of refugee/entrant arrivals into a county create a significant impact, regardless of the ratio of refugees to the county general population.

Each county would then be ranked in terms of the sum of a county's rank on refugee arrivals and its rank on concentration. To qualify for targeted assistance based on rank, a county would have to rank within the top 50 counties. ORR has decided to limit the number of qualified counties based on rank to the top 50 counties in order to target a sufficient level of funding to the most impacted counties.

A county could also qualify for targeted assistance based on resettling at least 3,000 refugee/entrant arrivals during the most recent five-year period. Three counties qualified according to this criteria. ORR decided that counties with 3,000 or more arrivals should qualify for targeted assistance after analyzing the arrival data and discovering that there were three counties which ranked high in arrival numbers (27, 29, and 38) but would not qualify for targeted assistance based solely on the sum of the ranks formula. ORR concluded that these counties which ranked high nationally in refugee population were impacted by high numbers of refugee arrivals, and thus should qualify for Targeted Assistance.

ORR has screened data on all counties that have received awards for targeted assistance since FY 1983 and on all other counties that could potentially qualify for TAP funds based on the criteria proposed in this notice. Analysis of these data indicates that: (1) 44 counties which have previously received targeted assistance would continue to qualify; (2) five counties which have previously received targeted assistance would no longer qualify; and (3) nine new counties would be qualified.

Table 1 provides a list of the counties that would remain qualified and the new counties that would qualify, the number of refugee/entrant arrivals in those counties within the past five years, the percent that the five-year arrival population represents of the overall county population, and each county's rank, based on the qualification formula described above.

Table 2 lists the counties that have previously received targeted assistance which would no longer qualify, the number of refugee/entrant arrivals in those counties within the past five years, the percent that the five-year arrival population represents of the overall county population, and each county's rank, based on the qualification formula.

The proposed counties listed in this notice as qualified to apply for FY 2002 TAP funding would remain qualified for TAP funding through FY 2004. ORR does not plan to consider the eligibility of additional counties for TAP funding until FY 2005, when ORR will again review data on all counties that could potentially qualify for TAP funds based on the criteria contained in this proposed notice. We believe that a more frequent redetermination of county qualification for targeted assistance would not provide qualifying counties a sufficient period of time within a stable funding climate to adequately address the refugee impact in their counties, while a less frequent redetermination of county qualification would pose the risk of not considering new population impacts in a timely manner.

B. Allocation Formula

Of the funds available for FY 2002 for targeted assistance, $44,529,300 would be allocated by formula to States for qualified counties based on the initial placements of refugees, Amerasians, entrants (including Havana parolees), and Kurdish asylees in these counties during the five-year period from FY 1997 through FY 2001 (October 1, 1996-September 30, 2001). This is data that is available in the ORR refugee data system.

For fiscal years 1999 through 2001, Havana parolees were derived from actual data. For fiscal years 1997-1998, INS provided the number of actual Havana parolees. The State of Florida supplied ORR with the actual number of these parolees which arrived in Florida. The remaining parolees were not identified with any other State of arrival. To account for these arrivals, ORR prorated the non-Florida parolee numbers to qualifying counties in other States based on the counties' proportion of the five-year entrant population in the U.S.

If a county does not agree with ORR's population estimate for refugees and entrants and believes that its five-year population for FY 1997-FY 2001 was undercounted, the county must provide the following evidence in order for ORR to reconsider its population estimate: the county must submit to ORR a letter from each local voluntary agency that resettled refugees in the county that attests to the fact that the refugees/entrants listed in an attachment to the letter were resettled as initial placements during the five-year period from FY 1997-FY 2001 in the county making the claim.

Documentation must include the name, alien number, date of birth and date of arrival in the U.S. for each refugee/entrant claimed. Listings of refugees who are not identified by their alien numbers will not be considered. Counties should submit such evidence separately from comments on the proposed formula no later than 30 days from the date of publication of this notice by e-mail as an attachment in Excel or other compatible format to: lbussert@acf.dhhs.gov or via overnight mail to: Loren Bussert, Division of Refugee Self-Sufficiency, Office of Refugee Resettlement, 370 L'Enfant Promenade, SW., Sixth Floor East, Washington, DC 20447, telephone: (202) 401-4732. Failure to submit the required documentation within the required time period will result in forfeiture of consideration.

Counties that have served asylees during the past year also may submit the following information in order to have their population estimate adjusted to include those asylees whose asylum was granted within the 60 month period ending September 30, 2001: (1) Name, (2) alien number, (3) date of birth, (4) the date asylum was granted, and (5) country of origin.

(Please note: The file should include the date that asylum was granted, not the date of entry into the U.S. or the date that the asylee was provided social services. Only persons granted asylum between October 1, 1996 and September 30, 2001 may be included in the file.)

Counties which have served victims of a severe form of trafficking during the past year may submit the following information in order to have their population estimate adjusted to include these trafficking victims: (1) Name, (2) alien number if available, (3) date of birth, (4) certification letter number, and, (5) date on certification letter.

Please submit the above data on asylees and victims of a severe form of trafficking served on separate Excel spreadsheets as an email attachment within 30 days of the publication date of this announcement to: lbussert@acf.dhhs.gov or via overnight mail to: Loren Bussert, Division of Refugee Self-Sufficiency, Office of Refugee Resettlement, 370 L'Enfant Promenade, SW., Sixth Floor East, Washington, DC 20447, telephone: (202) 401-4732.

VII. Allocations

Table 3 lists the proposed qualifying counties, the number of refugee and entrant arrivals in those counties during the five-year period from October 1, 1997-September 30, 2001, the number of Havana parolee arrivals in those counties for this five-year period, the sum of the third, fourth, and fifth columns, and the proposed amount of each county's allocation based on its five-year arrival population.

Table 4 provides State totals for proposed targeted assistance allocations. Table 5 indicates the areas that each proposed qualifying county represents. Tables 1 through 5 follow.

Table 1.—Top 53 Proposed Eligible Counties
County | State | Year arrival total | Concentration percent | Sum of ranks
44 Targeted Assistance Counties Eligible for Continuation
Dade County | FL | 60,757 | 2.6963 | 4
City of St. Louis | MO | 9,784 | 2.8100 | 23
DeKalb County | GA | 8,887 | 1.3347 | 34
Sacramento County | CA | 10,647 | 0.8702 | 35
Multnomah | OR | 12,048 | 0.6733 | 39
Oneida County | NY | 4,743 | 2.0143 | 42
Jefferson County | KY | 6,108 | 0.8806 | 45
King/Snohomish | WA | 12,561 | 0.4877 | 50
Hennepin/Ramsey | MN | 10,331 | 0.6355 | 51
New York | NY | 26,779 | 0.3344 | 62
Polk County | IA | 3,769 | 1.0061 | 66
DuVal County | FL | 4,989 | 0.6405 | 66
Maricopa County | AZ | 11,174 | 0.3637 | 69
Kent County | MI | 3,893 | 0.6778 | 76
Suffolk County | MA | 4,011 | 0.5815 | 77
Fulton County | GA | 4,332 | 0.5309 | 77
Ingham County | MI | 3,253 | 1.1646 | 79
Davis/Salt Lake | UT | 5,704 | 0.3788 | 83
Dallas/Tarrant | TX | 10,580 | 0.2887 | 87
Cook/Kane | IL | 14,102 | 0.2439 | 92
City of Richmond | VA | 2,520 | 1.2741 | 95
Spokane County | WA | 3,165 | 0.7573 | 97
Santa Clara County | CA | 5,431 | 0.3228 | 98
Harris County | TX | 9,041 | 0.2659 | 100
Fairfax County | VA | 4,305 | 0.3263 | 105
Davidson County | TN | 3,222 | 0.5654 | 106
Monroe County | NY | 3,351 | 0.4557 | 107
Cass County | ND | 2,113 | 1.7160 | 111
Lancaster County | NE | 2,314 | 0.9245 | 112
Hillsborough County | FL | 3,434 | 0.3438 | 118
Guilford County | NC | 2,419 | 0.5745 | 122
Denver County | CO | 2,673 | 0.4819 | 124
Los Angeles County | CA | 14,035 | 0.1474 | 125
Philadelphia County | PA | 3,966 | 0.2613 | 126
Erie County | PA | 2,087 | 0.7431 | 132
Hampden County | MA | 2,326 | 0.5098 | 132
San Diego County | CA | 5,461 | 0.1941 | 134
Minnehaha County | SD | 1,740 | 1.1734 | 140
District of Columbia | DC | 2,349 | 0.4106 | 141
San Francisco | CA | 3,866 | 0.2233 | 143
Clark County | NV | 3,473 | 0.2524 | 143
Broward County | FL | 3,465 | 0.2135 | 155
Cuyahoga County | OH | 3,048 | 0.2187 | 169
Orange County | CA | 3,763 | 0.1322 | 184
9 New Counties That Qualify
Onondaga County | NY | 3,027 | 0.6604 | 106
Ada County | ID | 2,292 | 0.7617 | 120
Warren County | KY | 1,867 | 2.0179 | 123
Blackhawk County | IA | 1,794 | 1.4014 | 129
Erie County | NY | 3,176 | 0.3342 | 131
Palm Beach County | FL | 3,303 | 0.2920 | 134
Pinellas County | FL | 2,914 | 0.3162 | 146
Wayne County | MI | 3,997 | 0.1939 | 149
Kansas City | MO | 2,582 | 0.3177 | 149

Table 2.—Counties That No Longer Qualify
County | State | Year arrival total | Concentration percent | Sum of ranks
Yolo County | CA | 1,249 | 0.7444 | 179
Pierce County | WA | 2,006 | 0.2862 | 184
Bernalillo County | NM | 1,593 | 0.2862 | 207
Hudson County | NJ | 1,335 | 0.2192 | 240
Fresno County | CA | 654 | 0.0818 | 379

Table 3.—Proposed Targeted Assistance Allocations by County: FY 2002
County | State | Refugees ¹ | Entrants | Havana Parolees ² | Total arrivals FY97-FY01 | $44,529,300 Total FY 2002 final allocation
Maricopa County | Arizona | 10,211 | 617 | 346 | 11,174 | $1,434,040
Los Angeles County | California | 13,811 | 44 | 180 | 14,035 | $1,801,213
Orange County | California | 3,737 | 9 | 17 | 3,763 | $482,932
Sacramento County | California | 10,643 | 0 | 4 | 10,647 | $1,366,406
San Diego County | California | 5,441 | 3 | 17 | 5,461 | $700,849
San Francisco | California | 3,852 | 3 | 11 | 3,866 | $496,151
Santa Clara County | California | 5,418 | 5 | 8 | 5,431 | $697,000
Denver County | Colorado | 2,670 | 0 | 3 | 2,673 | $343,045
District of Columbia | District of Columbia | 2,335 | 4 | 10 | 2,349 | $301,464
Broward County | Florida | 585 | 1,529 | 1,351 | 3,465 | $444,689
Dade County | Florida | 6,486 | 13,635 | 40,636 | 60,757 | $7,797,386
Duval County | Florida | 4,889 | 25 | 75 | 4,989 | $640,274
Hillsborough County | Florida | 1,678 | 335 | 1,421 | 3,434 | $440,710
Palm Beach County | Florida | 493 | 1,541 | 1,269 | 3,303 | $423,898
Pinellas County | Florida | 2,804 | 20 | 90 | 2,914 | $373,975
DeKalb County | Georgia | 8,871 | 6 | 10 | 8,887 | $1,140,533
Fulton County | Georgia | 4,281 | 14 | 37 | 4,332 | $555,957
Ada County³ | Idaho | 2,292 | 0 | 0 | 2,292 | $294,149
Cook/Kane | Illinois | 13,990 | 15 | 97 | 14,102 | $1,809,812
Polk County | Iowa | 3,767 | 0 | 2 | 3,769 | $483,703
Blackhawk | Iowa | 1,794 | 0 | 0 | 1,794 | $230,237
Jefferson County³ | Kentucky | 3,618 | 1,594 | 896 | 6,108 | $783,884
Warren County³ | Kentucky | 1,867 | 0 | 0 | 1,867 | $239,606
Hampden County | Massachusetts | 2,326 | 0 | 0 | 2,326 | $298,512
Suffolk County | Massachusetts | 3,880 | 77 | 54 | 4,011 | $514,761
Ingham County | Michigan | 2,080 | 752 | 421 | 3,253 | $417,481
Kent County | Michigan | 3,422 | 293 | 178 | 3,893 | $499,617
Wayne County | Michigan | 3,994 | 0 | 3 | 3,997 | $512,964
Hennepin/Ramsey | Minnesota | 10,318 | 5 | 8 | 10,331 | $1,325,852
City of St. Louis | Missouri | 9,784 | 0 | 0 | 9,784 | $1,255,652
Kansas City | Missouri | 2,544 | 9 | 29 | 2,582 | $331,367
Lancaster County | Nebraska | 2,306 | 5 | 3 | 2,314 | $296,972
Clark County³ | Nevada | 1,916 | 966 | 591 | 3,473 | $445,715
Erie County | New York | 3,062 | 73 | 41 | 3,176 | $407,599
Monroe County | New York | 2,456 | 570 | 325 | 3,351 | $430,058
New York | New York | 26,233 | 256 | 290 | 26,779 | $3,436,743
Oneida County | New York | 4,743 | 0 | 0 | 4,743 | $608,704
Onodaga County | New York | 2,170 | 548 | 309 | 3,027 | $388,477
Guilford County | North Carolina | 2,403 | 2 | 14 | 2,419 | $310,448
Cass County³ | North Dakota | 2,113 | 0 | 0 | 2,113 | $271,177
Cuyahoga County | Ohio | 3,042 | 1 | 5 | 3,048 | $391,172
Multnomah | Oregon | 11,135 | 584 | 329 | 12,048 | $1,546,207
Erie County | Pennsylvania | 2,087 | 0 | 0 | 2,087 | $267,840
Philadelphia County | Pennsylvania | 3,932 | 14 | 20 | 3,996 | $508,985
Minnehaha County³ | South Dakota | 1,740 | 0 | 0 | 1,740 | $233,307
Davidson County | Tennessee | 3,202 | 2 | 18 | 3,222 | $413,503
Dallas/Tarrant | Texas | 10,254 | 171 | 155 | 10,580 | $1,357,808
Harris County | Texas | 8,080 | 600 | 361 | 9,041 | $1,160,297
Davis/Salt Lake | Utah | 5,699 | 2 | 3 | 5,704 | $732,036
Fairfax County | Virginia | 4,290 | 1 | 14 | 4,305 | $552,492
City of Richmond | Virginia | 2,492 | 16 | 12 | 2,520 | $323,410
King/Snohomish | Washington | 12,547 | 4 | 10 | 12,561 | $1,612,044
Spokane County | Washington | 3,164 | 0 | 1 | 3,165 | $406,187
Total |  | 272,947 | 24,350 | 49,674 | 346,971 | 44,529,300
¹ Refugees includes refugees, Kurdish aslees, and Amerasian immigrants from Vietnam.
² For FY 1999-FY 2001, Havana parolees from actual data. For FY 1997-FY 1998, actual data for Florida counties; for all other counties, parolees estimated from entrant arrivals.
³ Allocation to be awarded to a Wilson/Fish grantee, if approved by the Director.

Table 4.—Targeted Assistance Proposed Allocations by State
State | $44,529,300 Total FY 2002 allocation
Arizona | $1,434,040
California | 5,544,551
Colorado | 343,045
District of Columbia | 301,464
Florida | 10,120,932
Georgia | 1,696,490
Idaho | 294,149
Illinois | 1,809,812
Iowa | 713,940
Kentucky | 1,023,490
Massachusetts | 813,273
Michigan | 1,430,062
Minnesota | 1,325,852
Missouri | 1,587,019
Nebraska | 296,972
Nevada | 445,715
New York | 5,271,581
North Carolina | 310,448
North Dakota | 271,177
Ohio | 391,172
Oregon | 1,546,207
Pennsylvania | 776,825
South Dakota | 223,307
Tennessee | 413,503
Texas | 2,518,105
Utah | 732,036
Virginia | 875,902
Washington | 2,018,231
Total | 44,529,300

Table 5.—Targeted Assistance Areas
State | Targeted assistance area | Definition
Arizona | Maricopa County
California | Los Angeles County
| Orange County
| Sacramento County
| San Diego
| San Francisco | Marin, San Francisco, and San Mateo Counties.
| San Clara County
Colorado | Denver
District of Columbia
Florida | Broward County
| Dade County
| Duval County
| Hillsborough County
| Palm Beach County
| Pinellas County
Georgia | DeKalb County
| Fulton County
Idaho | Ada County
Illinois | Cook and Kane Counties
Iowa | Polk County Blackhawk County
Kentucky | Jefferson County Warren County
Massachusetts | Hampden County Suffolk County
Michigan | Ingham County Kent County Wayne County
Minnesota | Hennepin/Ramsey
Missouri | City of St. Louis
| Kansas City | Jackson County, Missouri, and Wyandotte County, Kansas.
Nebraska | Lancaster County
Nevada | Clark County
New York | Erie County Monroe County New York Oneida County Onondaga County | Bronx, Kings, Queens, New York, and Richmond Counties.
North Carolina | Guilford County
North Dakota | Cass County
Ohio | Cuyahoga County
Oregon | Multoman | Clackamas, Multnoman, and Washington Counties, Oregon, and Clark County, Washington.
Pennsylvania | Erie Philadelpha
South Dakota | Minnehaha County
Tennessee | Davidson County
Texas | Dallas/Tarrant Harris County
Utah | Davis/Salt Lake | Davis, Salt Lake, and Utah Counties.
Virginia | Fairfax | Arlington and Fairfax Counties and the cities of Falls Church, Fairfax, and Alexandria.
| City of Richmond
Washington | King/Snohomish Spokane County

VIII. Application and Implementation Process

Under the FY 2002 targeted assistance program, States/Wilson-Fish agencies may apply for and receive grant awards on behalf of qualified counties in the State. A single allocation will be made to each State by ORR on the basis of an approved State application. The State/Wilson-Fish agency will, in turn, receive, review, and determine the acceptability of individual county targeted assistance plans.

Pursuant to 45 CFR 400.210(b), FY 2002 targeted assistance funds must be obligated by the State agency no later than one year after the end of the Federal fiscal year in which the Department awarded the grant. Funds must be liquidated within two years after the end of the Federal fiscal year in which the Department awarded the grant. A State's final financial report on targeted assistance expenditures must be received no later than 90 days after the end of the two-year expenditure period. If final reports are not received on time, the Department will deobligate any unexpended funds, including any unliquidated obligations, on the basis of the State's last filed report.

The requirements regarding the discretionary portion of the targeted assistance program will be addressed under separate continuation grant awards. Continuation applications for these funds, therefore, are not subject to provisions contained in this notice but to other requirements which will be published separately.

IX. Application Requirements

In applying for targeted assistance funds in response to the Final Targeted Assistance Notice, a State agency will be required to provide the following:

A. Assurance that targeted assistance funds will be used in accordance with the requirements in 45 CFR part 400.

B. Assurance that targeted assistance funds will be used primarily for the provision of services which are designed to enable refugees to obtain jobs with less than one year's participation in the targeted assistance program. States must indicate what percentage of FY 2002 targeted assistance formula allocation funds that are used for services will be allocated for employment services.

C. Assurance that targeted assistance funds will not be used to offset funding otherwise available to counties or local jurisdictions from the State agency in its administration of other programs, e.g. social services, cash and medical assistance, etc.

D. If administered locally, the name of the local agency administering the funds, and the name and telephone number of the responsible person.

E. The amount of funds to be awarded to the targeted county or counties. In instances where a State receives targeted assistance funding for impacted counties contained in a standard metropolitan statistical area (SMSA) which includes a county or counties located in a neighboring State, the State receiving those funds must provide a description of coordination and planning activities undertaken with the State Refugee Coordinator of the neighboring State in which the impacted county or counties are located. These planning and coordination activities should result in a proposed allocation plan for the equitable distribution of targeted assistance funds by county based on the distribution of the eligible population by county within the SMSA. The proposed allocation plan must be included in the State's application to ORR.

F. Assurance that county targeted assistance plans will include:

1. A description of the local planning process for determining targeted assistance priorities and services, taking into consideration all other ORR-funded services available to the refugee population, including formula social services.

2. Identification of refugee/entrant populations to be served by targeted assistance projects, including approximate numbers of clients to be served, and a description of characteristics and needs of targeted populations. (As per 45 CFR 400.314)

3. Description of specific strategies and services to meet the needs of targeted populations.

4. The relationship of targeted assistance services to other services available to refugees/entrants in the county including formula allocated ORR social services to States/Wilson-Fish agencies.

5. Analysis of available employment opportunities in the local community. Examples of acceptable analyses of employment opportunities might include surveys of employers or potential employers of refugee clients, surveys of presently effective employment service providers, and review of studies on employment opportunities/forecasts which would be appropriate to the refugee populations.

6. Description of the monitoring and oversight responsibilities to be carried out by the county or qualifying local jurisdiction.

G. Assurance that the local administrative budget will not exceed 15% of the local allocation. Targeted assistance grants are cost-based awards. Neither a State nor a county is entitled to a certain amount for administrative costs. Rather, administrative cost requests should be based on projections of actual needs. All TAP counties will be allowed to spend up to 15% of their allocation on TAP administrative costs, as need requires. However, States and counties are strongly encouraged to limit administrative costs to the extent possible to maximize available funding for services to refugees.

H. For any State that administers the program directly or otherwise provides direct service to the refugee/entrant population in a qualified county (with the concurrence of the county), the State must have the same information contained in a county plan prior to issuing a Request for Proposals (RFP) for services.

I. A description of the State's plan for conducting fiscal and programmatic monitoring and evaluations of the targeted assistance program, including frequency of on-site monitoring.

J. Assurance that the State will make available to the county or designated local entity not less than 95% of the amount of its formula allocation for purposes of implementing the activities proposed in its plan, except in the case of a State that administers the program locally as described in item H above. Allocable costs for State contracting and monitoring for targeted assistance, if charged, must be charged to the targeted assistance grant and not to general State administration.

X. Results or Benefits Expected

All applicants will be required to establish proposed targeted assistance performance goals for each of the six ORR performance outcome measures for each impacted county's proposed service contract(s) or sub-grants for the next contracting cycle. Proposed performance goals must be included in the application for each performance measure. The six ORR performance measures are: entered employments, cash assistance reductions due to employment, cash assistance terminations due to employment, 90-day employment retentions, average wage at placement, and job placements with available health benefits. Targeted assistance program activity and progress achieved toward meeting performance outcome goals are to be reported quarterly on the ORR-6, the “Quarterly Performance Report.”

States which are currently grantees for targeted assistance funds should base projected annual outcome goals on past performance. Current grantees should have adequate baseline data for all of the six ORR performance outcome measures based on a history of targeted assistance program experience.

States identified as new eligible targeted assistance grantees are also required to set proposed outcome goals for each of the six ORR performance outcome measures. New grantees may use baseline data, as available, and current data as reported on the ORR-6 for social services program activity to assist them in the goal-setting process.

New qualifying counties within States that are current grantees are also required to set proposed outcome goals for each of the six ORR performance outcome measures. New counties may use baseline data, as available, and current data as reported on the ORR-6 for social services program activity to assist them in the goal-setting process.

Proposed targeted assistance outcome goals should reflect improvement over past performance and strive for continuous improvement during the project period from one year to another.

Final targeted assistance outcome goals are due November 15, 2002, in conjunction with the ORR Government Performance and Results Act (GPRA) cycle.

XI. Budget and Budget Justification

In response to the Final Targeted Assistance, applicants will be required to provide line item detail and detailed calculations for each budget object class identified on the Budget Information form—Standard Form (SF) (424A). Detailed calculations must include estimation methods, quantities, unit costs, and other similar quantitative detail sufficient for the calculation to be duplicated. The detailed budget must also include a breakout by the funding sources identified in Block 15 of the SF-424. Forms may be obtained from the ORR Web site at: www.hhs.gov/programs/orr.

Provide a narrative budget justification that describes how the categorical costs are derived. Discuss the necessity, reasonableness, and allocability of the proposed costs. The Office of Refugee Resettlement is particularly interested in the following:

A line item budget and justification for State administrative costs limited to a maximum of 5% of the total award to the State. Each total budget period funding amount requested must be necessary, reasonable, and allocable to the project. States that administer the program locally in lieu of the county, through a mutual agreement with the qualifying county, may request administrative costs that add up to, but may not exceed, 10% of the county's TAP allocation to the State's administrative budget.

XII. Reporting Requirements

States are required to submit quarterly reports on the outcomes of the targeted assistance program, using Schedule A and Schedule C of the ORR-6 Quarterly Performance Report (0970-0036).

XIII. The Paperwork Reduction Act of 1995 (Pub. L. 104-13)

All information collections within this program notice are approved under the following valid OMB control numbers: SF 424 (0348-0043); SF 424A (0348-0044); SF 424B (0348-0040); Disclosure of Lobbying Activities (0348-0046); Uniform Project Description (0970-0139), Expiration date 12/31/2003; Financial Status Report (SF-269) (0348-0039); and ORR Quarterly Performance Report (0970-0036).

An agency may not conduct or sponsor, and a person is not required to respond to, a collection of information unless it displays a currently valid OMB control number.

Public reporting burden for this collection of information is estimated to average 10 hours per response, including the time for reviewing instructions, gathering and maintaining the data needed, and reviewing the collection of information.

Dated: May 15, 2002.
Nguyen Van Hanh,
Director, Office of Refugee Resettlement.

[FR Doc. 02-13088 Filed 5-24-02; 8:45 am]

BILLING CODE 4184-01-P